FEDERAL LABOR RELATIONS AUTHORITY

5 CFR Part 2427

[FLRA Docket No. 0-PS-34]

Notice of Opportunity To Comment on a Request for a General Statement of Policy or Guidance on Revoking Union-Dues Assignments

AGENCY: Federal Labor Relations Authority.

ACTION: Request for comments.

SUMMARY: The Federal Labor Relations Authority (Authority) solicits written comments on a request from the Office of Personnel Management (OPM) for a general statement of policy or guidance. OPM asks the Authority to issue a general statement of policy or guidance holding that the U.S. Supreme Court's decision in Janus v. AFSCME, Council 31 (2018) requires the Authority to reevaluate its precedent on the revocation of federal employees' union-dues assignments. Comments are solicited on whether the Authority should issue a general statement of policy or guidance, and, if so, what the Authority's policy or guidance should be.

DATES: To be considered, comments must be received on or before August 12, 2019.

ADDRESSES: You may send comments, which must include the caption “Office of Personnel Management (Petitioner), Case No. 0-PS-34,” by one of the following methods:

• Email: FedRegComments@flra.gov Include “OPM (Petitioner), Case No. 0-PS-34” in the subject line of the message..

• Mail or Hand Delivery: Emily Sloop, Chief, Case Intake and Publication, Federal Labor Relations Authority, Docket Room, Suite 200, 1400 K Street NW, Washington, DC 20424-0001.

Instructions: It is not necessary to mail or hand deliver written comments if they have been submitted via email. Interested persons who mail or hand deliver written comments must submit an original and 4 copies of each written comment, with any enclosures, on 8½ x 11 inch paper.

FOR FURTHER INFORMATION CONTACT: Emily Sloop, Chief, Case Intake and Publication, Federal Labor Relations Authority, (202) 218-7740.

SUPPLEMENTARY INFORMATION: In Case No. 0-PS-34, OPM requests that the Authority issue a general statement of policy or guidance concerning the interpretation of 5 U.S.C. 7115(a), considering the First Amendment principles that the U.S. Supreme Court clarified in Janus v. AFSCME, Council 31, 138 S. Ct. 2448 (2018). Interested persons are invited to express their views in writing as to whether the Authority should issue a general statement and, if it does, what the Authority's policy or guidance should be.

Request for Comments

To Heads of Agencies, Presidents of Labor Organizations, and Other Interested Persons:

OPM has requested, under Section 2427.2(a) of the Authority's rules and regulations (5 CFR 2427.2(a)), that the Authority issue a general statement of policy or guidance on the applicability of the First Amendment principles that the U.S. Supreme Court clarified in Janus v. AFSCME, Council 31, 138 S. Ct. 2448 (2018), to the revocation of federal employees' union-dues assignments under Section 7115(a) of the Federal Service Labor-Management Relations Statute (the Statute). Section 7115(a) states, in pertinent part, that “[i]f an agency has received from an employee in an appropriate unit a written assignment which authorizes the agency to deduct from the pay of the employee amounts for the payment of regular and periodic dues of the exclusive representative of the unit, the agency shall honor the assignment and make an appropriate allotment pursuant to the assignment.” The section further provides that, with certain exceptions, “any such assignment may not be revoked for a period of 1 year.”

Since its decision in U.S. Army, U.S. Army Materiel Development & Readiness Command, Warren, Michigan, 7 FLRA 194 (1981), the Authority has held that the wording in Section 7115(a) that “ `any such assignment may not be revoked for a period of 1 year' must be interpreted to mean that authorized dues allotments may be revoked only at intervals of 1 year.” 7 FLRA at 199. The Authority has also held that “parties may define through negotiations the procedures for implementing” Section 7115, as long as those negotiated procedures preserve employees' freedoms to have dues deducted from their pay and to revoke their dues assignments at one-year intervals. AFGE, AFL-CIO, 51 FLRA 1427, 1432-37 (1996).

In its request, OPM asks the Authority to issue a general statement of policy or guidance holding that:

1. The constitutional principles clarified in Janus have general applicability to agencies and labor organizations in the area of federal employees' requests to revoke union-dues assignments under Section 7115(a) of the Statute; and

2. Consistent with Janus, upon receiving an employee's request to revoke a previously authorized union-dues assignment, an agency should process the request as soon as administratively feasible, if at least one year has passed since the employee initially authorized union-dues assignment from the employee's pay.

Regarding the matters raised by OPM, the Authority invites written comments on whether issuance of a general statement of policy or guidance is warranted, under the standards set forth in Section 2427.5 of the Authority's rules and regulations (5 CFR 2427.5), and, if so, what the Authority's policy or guidance should be. Written comments must contain separate, numbered headings for each issue covered.

Dated: July 3, 2019.
Emily Sloop,
Chief, Case Intake and Publication.

[FR Doc. 2019-14651 Filed 7-11-19; 8:45 am]

BILLING CODE 6727-01-P